DEPARTMENT OF COMMERCE

International Trade Administration

[A-570-200]

Methylene Diphenyl Diisocyanate From the People's Republic of China: Preliminary Affirmative Determination of Sales at Less-Than-Fair-Value, Postponement of Final Determination, and Extension of Provisional Measures

AGENCY: Enforcement and Compliance, International Trade Administration, Department of Commerce.

SUMMARY: The U.S. Department of Commerce (Commerce) preliminarily determines that methylene diphenyl diisocyanate (MDI) from the People's Republic of China (China) is being, or is likely to be, sold in the United States at less-than-fair-value (LTFV). The period of investigation (POI) is July 1, 2024, through December 31, 2024. Interested parties are invited to comment on this preliminary determination.

DATES: Applicable September 16, 2025.

FOR FURTHER INFORMATION CONTACT: Kayden Jenson or Christopher Maciuba, AD/CVD Operations, Office II, Enforcement and Compliance, International Trade Administration, U.S. Department of Commerce, 1401 Constitution Avenue NW, Washington, DC 20230; telephone: (202) 482-0967 or (202) 482-0413, respectively.

SUPPLEMENTARY INFORMATION:

Background

This preliminary determination is made in accordance with section 773(b) of the Tariff Act of 1930, as amended (the Act). Commerce published the notice of initiation of this investigation on March 11, 2025.¹ On July 14, 2025, Commerce postponed the deadline to issue the preliminary determination of this investigation until September 10, 2025.²

¹ See Methylene Diphenyl Diisocyanate from the People's Republic of China: Initiation of Less-Than-Fair-Value Investigation, 90 FR 11710 (March 11, 2025) (Initiation Notice).

² See Methylene Diphenyl Diisocyanate from the People's Republic of China: Postponement of Preliminary Determination in the Less-Than-Fair-Value Investigation, 90 FR 31163 (July 14, 2025).

For a complete description of the events that followed the initiation of this investigation, see the Preliminary Decision Memorandum.³ A list of topics included in the Preliminary Decision Memorandum is included as Appendix II to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

³ See Memorandum, “Decision Memorandum for the Preliminary Determination in the Less-Than-Fair-Value Investigation of Methylene Diphenyl Diisocyanate from the People's Republic of China,” dated concurrently with, and hereby adopted by, this notice (Preliminary Decision Memorandum).

Scope of the Investigation

The product covered by this investigation is MDI from China. For a complete description of the scope of this investigation, see Appendix I.

Scope Comments

In accordance with the Preamble to Commerce's regulations,⁴ the Initiation Notice set aside a period of time for parties to raise issues regarding product coverage (i.e., scope).⁵ No interested party commented on the scope of the investigation as it appeared in the Initiation Notice. Therefore, Commerce is not preliminarily modifying the scope language as it appeared in the Initiation Notice. See the scope in Appendix I to this notice.

⁴ See Antidumping Duties; Countervailing Duties, Final Rule, 62 FR 27296, 27323 (May 19, 1997) (Preamble).

⁵ See Initiation Notice.

Methodology

Commerce is conducting this investigation in accordance with section 731 of the Act. In addition, pursuant to sections 776(a) and (b) of the Act, Commerce preliminarily has relied upon facts otherwise available, with adverse inferences, for the China-wide entity. For the non-examined separate rate companies, Commerce has preliminarily relied on the simple average of the dumping margins alleged in the Petition.⁶ For a full description of the methodology underlying Commerce's preliminary determination, see the Preliminary Decision Memorandum.

⁶ Id., and accompanying Initiation Checklist at “Estimated Margins.”

Separate Rates

We preliminarily granted a separate rate to certain respondents that we did not select for individual examination.⁷ In calculating the rate for non-individually examined separate rate respondents in a non-market economy LTFV investigation, Commerce normally looks to section 735(c)(5)(A) of the Act, which pertains to the calculation of the all-others rate in a market economy LTFV investigation, for guidance. Pursuant to section 735(c)(5)(A) of the Act, normally this rate shall be an amount equal to the weighted-average of the estimated weighted-average dumping margins established for those companies individually examined, excluding zero and de minimis dumping margins, and any dumping margins based entirely under section 776 of the Act. The statute further provides that, where all margins are zero, de minimis, or based entirely on facts available, Commerce may use “any reasonable method” for assigning the rate to non-selected respondents.⁸

⁷ See Preliminary Decision Memorandum for additional details.

⁸ See section 735(c)(5)(B) of the Act.

In cases where no weighted-average dumping margins other than zero, de minimis, or determined wholly under section 776 of the Act have been established for individually examined entities, in accordance with section 735(c)(5)(B) of the Act, Commerce typically calculates a simple average of the dumping margins alleged in the petition and applies the result to all other separate rate entities not individually examined.⁹ The simple average of the dumping margins alleged in the Petition in this investigation is 376.12 percent.¹⁰ See the table below in the “Preliminary Determination” section of this notice.

⁹ See, e.g., Certain Pea Protein from the People's Republic of China: Preliminary Affirmative Determination of Sales at Less Than Fair Value, Preliminary Affirmative Determination of Critical Circumstances, Postponement of Final Determination, and Extension of Provisional Measures, 89 FR 10038 (February 13, 2024), unchanged in Certain Pea Protein from the People's Republic of China: Final Affirmative Determination of Sales at Less Than Fair Value and Final Affirmative Critical Circumstances Determination, 89 FR 55559 (July 5, 2024).

¹⁰ See Petition SQR at Exhibit II-S16.

Combination Rates

In the Initiation Notice, Commerce stated that it would calculate producer/exporter combination rates for the respondents that are eligible for a separate rate in this investigation.¹¹ Policy Bulletin 05.1 describes this practice.¹²

¹¹ See Initiation Notice, 90 FR at 11714.

¹² See Enforcement and Compliance's Policy Bulletin No. 05.1, regarding “Separate-Rates Practice and Application of Combination Rates in Antidumping Investigations involving Non-Market Economy Countries,” (April 5, 2005) (Policy Bulletin 05.1), available on Commerce's website at https://enforcement.trade.gov/policy/bull05-1.pdf.

Preliminary Determination

Commerce preliminarily determines that the following estimated weighted-average dumping margins exist:

Producer | Exporter | Estimated weighted-average dumping margins (percent)
Covestro Polymers (China) Co., Ltd | Covestro Polymers (China) Co., Ltd | 376.12
Wanhua Chemical Group Co., Ltd | Shandong Mingko Co., Ltd | 376.12
China-wide Entity |  | * 511.75
* This rate is based on facts available with adverse inferences.

Suspension of Liquidation and Cash Deposit Requirements

In accordance with section 733(d)(2) of the Act, Commerce will direct U.S. Customs and Border Protection (CBP) to suspend liquidation of subject merchandise as described in the scope of the investigation section entered, or withdrawn from warehouse, for consumption on or after the date of publication of this notice in the Federal Register, as discussed below. Further, pursuant to section 733(d)(1)(B) of the Act and 19 CFR 351.205(d), Commerce will instruct CBP to require a cash deposit equal to the weighted average amount by which normal value exceeds U.S. price, as indicated in the chart above as follows: (1) for the producer/exporter combinations listed in the table above, the cash deposit rate is equal to the estimated weighted-average dumping margin listed for that combination in the table; (2) for all combinations of Chinese producers/exporters of merchandise under consideration that have not established eligibility for their own separate rates, the cash deposit rate will be equal to the estimated weighted-average dumping margin established for the China-wide entity; and (3) for all third-country exporters of merchandise under consideration not listed in the table above, the cash deposit rate is the cash deposit rate applicable to the Chinese producer/exporter combination (or the China-wide entity) that supplied that third-country exporter.

Disclosure

Normally, Commerce discloses to interested parties the calculations performed in connection with a preliminary determination within five days of its public announcement or, if there is no public announcement, within five days of the date of publication of this notice in accordance with 19 CFR 351.224(b). However, because Commerce preliminarily relied upon information from the Petition in its preliminary determination, there are no calculations to disclose.

Verification

Because the mandatory respondent in this investigation is not eligible for a separate rate, Commerce does not intend to conduct verification.

Public Comment

Case briefs or other written comments may be submitted to the Assistant Secretary for Enforcement and Compliance no later than 30 days after the date of publication of this preliminary determination in the Federal Register. Rebuttal briefs, limited to issues raised in the case briefs, may be filed no later than five days after the date for filing case briefs.¹³ Interested parties who submit case briefs or rebuttal briefs in this proceeding must submit: (1) a table of contents listing each issue; and (2) a table of authorities.¹⁴

¹³ See 19 CFR 351.309(d); see also Administrative Protective Order, Service, and Other Procedures in Antidumping and Countervailing Duty Proceedings, 88 FR 67069, 67077 (September 29, 2023) (APO and Service Final Rule).

¹⁴ See 19 CFR 351.309(c)(2) and (d)(2).

As provided under 19 CFR 351.309(c)(2) and (d)(2), in prior proceedings we have encouraged interested parties to provide an executive summary of their brief that should be limited to five pages total, including footnotes. In this investigation, we instead request that interested parties provide at the beginning of their briefs a public, executive summary for each issue raised in their briefs.¹⁵ Further, we request that interested parties limit their executive summary of each issue to no more than 450 words, not including citations. We intend to use the executive summaries as the basis of the comment summaries included in the issues and decision memorandum that will accompany the final determination in this investigation. We request that interested parties include footnotes for relevant citations in the executive summary of each issue. Note that Commerce has amended certain of its requirements pertaining to the service of documents in 19 CFR 351.303(f).¹⁶

¹⁵ We use the term “issue” here to describe an argument that Commerce would normally address in a comment of the Issues and Decision Memorandum.

¹⁶ See APO and Service Final Rule.

Pursuant to 19 CFR 351.310(c), interested parties who wish to request a hearing, limited to issues raised in the case and rebuttal briefs, must submit a written request to the Assistant Secretary for Enforcement and Compliance, U.S. Department of Commerce, within 30 days after the date of publication of this notice. Requests should contain: (1) the party's name, address, and telephone number; (2) the number of participants and whether any participant is a foreign national; and (3) a list of the issues to be discussed. If a request for a hearing is made, Commerce intends to hold the hearing at a time and date to be determined. Parties should confirm the date, time, and location of the hearing two days before the scheduled date.

Postponement of Final Determination and Extension of Provisional Measures

Section 735(a)(2) of the Act provides that a final determination may be postponed until not later than 135 days after the date of the publication of the preliminary determination if, in the event of an affirmative preliminary determination, a request for such postponement is made by exporters who account for a significant proportion of exports of the subject merchandise, or in the event of a negative preliminary determination, a request for such postponement is made by the petitioner. Pursuant to 19 CFR 351.210(e)(2), Commerce requires that requests by respondents for postponement of a final antidumping duty determination be accompanied by a request for extension of provisional measures from a four-month period to a period not more than six months in duration.

On August 28, 2025, Wanhua Singapore and Wanhua Ningbo requested that Commerce postpone the final determination and that the provisional measures be extended to a period not to exceed six months, respectively.¹⁷ Pursuant to section 735(a)(2)(A) of the Act and 19 CFR 351.210(b)(2)(ii), because: (1) the preliminary determination is affirmative; (2) the requesting exporters account for a significant proportion of exports of the subject merchandise; and (3) no compelling reasons for denial exist, Commerce is postponing the final determination and extending the provisional measures from a four-month period to a period not greater than six months. Accordingly, Commerce will make its final determination no later than 135 days after the date of publication of this preliminary determination.

¹⁷ See Wanhua Singapore and Wanhua Ningbo's Letter, “Wanhua's Request to Postpone the Final Determination,” dated August 28, 2025.

U.S. International Trade Commission (ITC) Notification

In accordance with section 733(f) of the Act, Commerce will notify the ITC of its preliminary determination of sales at LTFV. If the final determination is affirmative, the ITC will determine before the later of 120 days after the date of this preliminary determination or 45 days after the final determination whether imports of the subject merchandise are materially injuring, or threaten material injury to, the U.S. industry.

Notification to Interested Parties

This determination is issued and published in accordance with sections 773(f) and 777(i)(1) of the Act, and 19 CFR 351.205(e).

Dated: September 10, 2025.
Christopher Abbott,
Deputy Assistant Secretary for Policy and Negotiations, performing the non-exclusive functions and duties of the Assistant Secretary for Enforcement and Compliance.

Appendix I

Scope of the Investigation

The merchandise subject to this investigation is methylene diphenyl diisocyanate (MDI), which is an aromatic polyisocyanate material whose composition includes two or more isocyanate groups (i.e., functional group containing a nitrogen atom, a carbon atom, and an oxygen atom bonded together (-NCO)) attached to one or more benzene rings (i.e., flat, symmetrical molecule made up of six carbon atoms arranged in a hexagonal ring and has the chemical formula C6H6) that are joined by methylene bridges (i.e., a carbon atom bound to two hydrogen atoms (-CH2-) and connected by single bonds to two other distinct atoms in the rest of the molecule). MDI is commonly called Polymeric, Monomeric, or Modified MDI and may also be referred to under other names, including Methylene bisphenyl isocyanate, 4,4′-Diphenylmethane diisocyanate, Methylene di-p-phenylene ester of isocyanic acid, Methylene bis(4-phenyl isocyanate), and polymethylene polyphenylene isocyanate. MDI is normally associated with Chemical Abstracts Service (CAS) registry numbers 9016-87-9, 101-68-8, 5873-54-1, 2536-05-2, 1689576-89-3, 25686-28-6, 26447-40-5, and 39310-05-9, but several others are also used.

MDI ranges in physical form from low viscosity liquids to solids. MDI is covered by the scope of this investigation irrespective of whether it has gone through a distillation process and regardless of acid content, reactivity, functionality, freeze stability, physical form, viscosity, grade, purity, molecular weight, or packaging.

MDI may contain additives, such as catalysts, solvents, plasticizers, antioxidants, fire retardants, colorants, pigments, diluents, thickeners, fillers, softeners, toughening agents. The scope does not include mixtures of MDI with other materials, when the combined MDI component comprises less than 40 percent of the total weight of the mixture.

MDI may be partially reacted with itself, polyol, or polyamines, and retain MDI component that has not fully chemically reacted so as to convert it into a different product no longer containing isocyanate groups. These products are known as homopolymer, uretonimine MDI, carbodiimide MDI, or prepolymers. The scope does not include partially reacted MDI when its NCO content is less than 10 weight percentage.

For MDI that enter as part of a system with separately packaged resin consisting mostly of a chemical compound that has an OH reactive group, including polyol, only the MDI portion of the system is included in the scope. The scope does not include any separately packaged polyol that would not fall within the scope if entered on its own.

The scope includes merchandise matching the above description that has been processed in a third country, including by commingling, diluting, introducing or removing additives, or performing any other processing that would not otherwise remove the merchandise from the scope of the investigation if performed in the subject country.

The scope also includes MDI that is commingled or blended with MDI from sources not subject to this investigation. Only the subject component of such commingled products is covered by the scope of this investigation.

This merchandise is currently classifiable under Harmonized Tariff Schedule of the United States (HTSUS) subheadings 2929.10.8010 and 3909.31.0000. Subject merchandise may also be entered under subheadings 3824.99.2600, 3909.50.1000, 3909.50.2000, 3909.50.5000, 3824.99.2900, 3506.91.5000, 3911.90.4500, 3921.13.5000, and 3920.99.5000. The HTSUS subheadings are provided for convenience and customs purposes only; the written description of the scope is dispositive.

Appendix II

List of Topics Discussed in the Preliminary Decision Memorandum

I. Summary

II. Background

III. Period of Investigation

IV. Affiliation and Single Entity Treatment

V. Discussion of the Methodology

VI. Recommendation

[FR Doc. 2025-17904 Filed 9-15-25; 8:45 am]

BILLING CODE 3510-DS-P